FEDERAL COMMUNICATIONS COMMISSION

47 CFR Part 73

[DA 05-299; MM Docket No. 02-63, RM-10398]

Radio Broadcasting Service; Burbank and Walla Walla, WA

AGENCY: Federal Communications Commission.

ACTION: Final rule.

SUMMARY: The Audio Division, at the request of New Northwest Broadcasters, LLC, reallots Channel 256C1 from Walla Walla to Burbank, Washington, and modifies Station KUJ-FM's license accordingly. See 67 FR 17669, April 11, 2002. We also dismiss the one-step upgrade application (File No. BPH-20041008ACV) filed by New Northwest Broadcasters, LLC, requesting the substitution of Channel 256C1 for 256C2 at Walla Walla, Washington, as moot. Channel 256C1 can be reallotted to Burbank in compliance with the Commission's minimum distance separation requirements at petitioner's presently licensed site. The coordinates for Channel 256C1 at Burbank are 45-57-22 North Latitude and 118-41-11 West Longitude.

DATES: Effective March 21, 2005.

ADDRESSES: Federal Communications Commission, 445 Twelfth Street, SW., Washington, DC 20554.

FOR FURTHER INFORMATION CONTACT: Sharon P. McDonald, Media Bureau, (202) 418-2180.

SUPPLEMENTARY INFORMATION: This is a synopsis of the Commission's Report and Order, MM Docket No. 02-63, adopted February 2, 2005, and released February 4, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Washington, is amended by adding Burbank, Channel 256C1 and by removing Channel 246C, Channel 256C2, and Channel 265A and adding Channel 246C0 at Walla Walla.

Federal Communications Commission.
John A. Karousos,
Assistant Chief, Audio Division, Media Bureau.

[FR Doc. 05-3512 Filed 2-23-05; 8:45 am]

BILLING CODE 6712-01-P